DEPARTMENT OF TRANSPORTATION

Maritime Administration

[Docket No. DOT-MARAD-2017-0190]

Request for Comments on the Renewal of a Previously Approved Information Collection: Application for Waiver of the Coastwise Trade Laws for Small Passenger Vessels

AGENCY: Maritime Administration, DOT.

ACTION: Notice and request for comments.

SUMMARY: The Maritime Administration (MARAD) invites public comments on our intention to request the Office of Management and Budget (OMB) approval to renew an information collection. The information to be collected will be used to process applications for waivers of the coastwise trade laws, and to determine the effect such waivers would have on United States vessel builders and United States-built vessel operators before granting or denying the waiver request. We are required to publish this notice in the Federal Register by the Paperwork Reduction Act of 1995.

DATES: Comments must be submitted on or before February 5, 2018.

ADDRESSES: You may submit comments [identified by Docket No. DOT-MARAD-20XX-0190 through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Michael Hokana, 202-366-0760, Office of Cargo and Commercial Sealift, Maritime Administration, U.S. Department of Transportation, 1200 New Jersey Avenue SE., Washington, DC 20590, Email: Michael.Hokana@dot.gov.

SUPPLEMENTARY INFORMATION:

Title: Application for Waiver of the Coastwise Trade Laws for Small Passenger.

OMB Control Number: 2133-0529.

Type of Request: Renewal of a Previously Approved Information Collection.

Abstract: Owners of small, foreign-built passenger vessels desiring a waiver of U.S. build requirement to operate commercially in the carriage of twelve passengers or less in domestic trade will be required to file a written application to the Maritime Administration (MARAD). The agency will review the application, post it for 30-days in the Federal Register to seek public comment, and then make a determination based on the record as to whether to grant the requested waiver or not.

Respondents: Small passenger vessel owners who desire to operate in the coastwise trade.

Affected Public: Business or other for Profit.

Estimated Number of Respondents: 138.

Estimated Number of Responses: 138.

Estimated Hours per Response: 1 hour.

Annual Estimated Total Annual Burden Hours: 138.

Frequency of Response: Annually.

Authority: The Paperwork Reduction Act of 1995; 44 U.S.C. Chapter 35, as amended; and 49 CFR 1.93. * * *

By Order of the Maritime Administrator.
Dated: November 30, 2017.
T. Mitchell Hudson, Jr.,
Secretary, Maritime Administration.

[FR Doc. 2017-26173 Filed 12-4-17; 8:45 am]

BILLING CODE 4910-81-P